ENVIRONMENTAL PROTECTION AGENCY

[OPP-181075; FRL-6495-9]

Fluazinam; Receipt of Application for Emergency Exemption, Solicitation of Public Comment

AGENCY: Environmental Protection Agency (EPA).

ACTION: Notice.

SUMMARY: EPA has received a specific exemption request from the Virginia Department of Agriculture and Consumer Services and the Oklahoma Department of Agriculture to use the pesticide fluazinam (CAS No. 79622-59-6) to treat up to 45,000 acres in Virginia and 33,000 acres in Oklahoma of peanuts to control sclerotinia blight. The Applicant proposes the use of a new chemical which has not been registered by the EPA. EPA is soliciting public comment before making the decision whether or not to grant the exemption.

DATES: Comments, identified by docket control number OPP-181075, must be received on or before March 30, 2000.

ADDRESSES: Comments may be submitted by mail, electronically, or in person. Please follow the detailed instructions for each method as provided in Unit I. of the SUPPLEMENTARY INFORMATION. To ensure proper receipt by EPA, it is imperative that you identify docket control number OPP-181075 in the subject line on the first page of your response.

FOR FURTHER INFORMATION CONTACT: Barbara Madden, Registration Division (7505C), Office of Pesticide Programs, Environmental Protection Agency, Ariel Rios Bldg., 1200 Pennsylvania Ave., NW., Washington, DC 20460; telephone number: (703) 305-6463; fax number: (703) 308-5433; e-mail address: Madden.Barbara@epa.gov.

SUPPLEMENTARY INFORMATION:

I. General Information

A. Does this Action Apply to Me?

You may be potentially affected by this action if you petition EPA for emergency exemption under section 18 of FIFRA. Potentially affected categories and entities may include, but are not limited to:

Categories | NAICS codes | Examples of potentially affected entities
State government | 9241 | State agencies that petition EPA for section 18 pesticide exemption

This listing is not intended to be exhaustive, but rather provides a guide for readers regarding entities likely to be regulated by this action. Other types of entities not listed in the table in this unit could also be regulated. The North American Industrial Classification System (NAICS) codes have been provided to assist you and others in determining whether or not this action applies to certain entities. If you have any questions regarding the applicability of this action to a particular entity, consult the person listed under FOR FURTHER INFORMATION CONTACT.

B. How Can I Get Additional Information, Including Copies of this Document and Other Related Documents?

1. Electronically. You may obtain electronic copies of this document, and certain other related documents that might be available electronically, from the EPA Internet Home Page at http://www.epa.gov/. To access this document, on the Home Page select “Laws and Regulations” and then look up the entry for this document under the “Federal Register—Environmental Documents.” You can also go directly to the Federal Register listings at http://www.epa.gov/fedrgstr/.

2. In person. The Agency has established an official record for this action under docket control number OPP-181075. The official record consists of the documents specifically referenced in this action, any public comments received during an applicable comment period, and other information related to this action, including any information claimed as Confidential Business Information (CBI). This official record includes the documents that are physically located in the docket, as well as the documents that are referenced in those documents. The public version of the official record does not include any information claimed as CBI. The public version of the official record, which includes printed, paper versions of any electronic comments submitted during an applicable comment period, is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

C. How and to Whom Do I Submit Comments?

You may submit comments through the mail, in person, or electronically. To ensure proper receipt by EPA, it is imperative that you identify docket control number OPP-181075 in the subject line on the first page of your response.

1. By mail. Submit your comments to: Public Information and Records Integrity Branch (PIRIB), Information Resources and Services Division (7502C), Office of Pesticide Programs (OPP), Environmental Protection Agency, Ariel Rios Bldg., 1200 Pennsylvania Ave., NW., Washington, DC 20460.

2. In person or by courier. Deliver your comments to: Public Information and Records Integrity Branch (PIRIB), Information Resources and Services Division (7502C), Office of Pesticide Programs (OPP), Environmental Protection Agency, Rm. 119, Crystal Mall #2, 1921 Jefferson Davis Hwy., Arlington, VA. The PIRIB is open from 8:30 a.m. to 4 p.m., Monday through Friday, excluding legal holidays. The PIRIB telephone number is (703) 305-5805.

3. Electronically. You may submit your comments electronically by e-mail to: “opp-docket@epa.gov,” or you can submit a computer disk as described above. Do not submit any information electronically that you consider to be CBI. Avoid the use of special characters and any form of encryption. Electronic submissions will be accepted in WordPerfect 6.1/8.0 or ASCII file format. All comments in electronic form must be identified by docket control number OPP-181075. Electronic comments may also be filed online at many Federal Depository Libraries.

D. How Should I Handle CBI that I Want to Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the person listed under FOR FURTHER INFORMATION CONTACT.

E. What Should I Consider as I Prepare My Comments for EPA?

You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve the proposed rule or collection activity.

7. Make sure to submit your comments by the deadline in this document.

8. To ensure proper receipt by EPA, be sure to identify the docket control number assigned to this action in the subject line on the first page of your response. You may also provide the name, date, and Federal Register citation.

II. Background

A. What Action is the Agency Taking?

Under section 18 of the Federal Insecticide, Fungicide, and Rodenticide Act (FIFRA) (7 U.S.C. 136p), at the discretion of the Administrator, a Federal or State agency may be exempted from any provision of FIFRA if the Administrator determines that emergency conditions exist which require the exemption. The Virginia Department of Agriculture and Consumer Services and the Oklahoma Department of Agriculture has requested the Administrator to issue a specific exemption for the use of fluazinam on peanuts to control sclerotinia blight. Information in accordance with 40 CFR part 166 was submitted as part of this request.

As part of this request, the Applicant asserts that in Virginia since 1992, several events have impacted the peanut crop and resulted in an overall decline in its value. Major factors responsible for this decline have been the steady spread of sclerotinia blight, the absence of effective control measures, and the unchanging market prices that farmers receive for peanuts under provisions of the 1996 farm bill. Emergency exemptions for use of dicloran to control sclerotinia blight were granted to the Virginia Department of Agriculture and Consumer Services from 1978 through 1983. The state claims that disease control with dicloran was erratic. In 1985, iprodione was registered to control sclerotinia blight in peanuts. Acording to the state, sclerotinia blight has developed resistance to iprodione and therefore does not provide effective disease control. In Virginia epidemics of sclerotinia blight occur in peanuts each year once the crop develops a complete canopy that covers the soil surface. Cool-to-moderate temperatures and moist conditions under the plant canopy are a triggering factor for germination of sclerotia and subsequent infection of plant parts. Yield losses without the use of fluazinam are expected to exceed 10% for 60% of the total acres planted in 2000.

Sclerotinia blight of peanuts was first discovered in Oklahoma in 1972 and became endemic since its discovery. Disease outbreaks may occur in early July or soon after peanut plants have formed a foliar canopy that shades the soil surface. The disease is favored by high humidity and cool to warm temperatures. The disease is expected to be most severe in the late summer when the prevailing temperatures are cooler and the peanut plant canopy shades the soil and cools soil temperatures. A favorable microclimate is present in irrigated fields because of a dense plant canopy, vegetative wetness, and cool moist soils. The majority (80%) of the peanut acreage in Oklahoma is irrigated. The state contends that registered fungicides such as iprodione and Tenncop (Cu-based) do not adequately control sclerotinia blight. Although a peanut variety (Tamspan 90) resistant to sclerotinia blight is available, it is a Spanish type variety and growers are reluctant to plant this type of peanut because the nut processing industry prefers runner-type peanut varieties. The Oklahoma Department of Agriculture has been granted emergency exemptions for use of dicloran to control sclerotinia blight for the past 3 years (1997, 1998, and 1999). EPA denied an exemption request for dicloran on peanuts in Oklahoma in 1991 due to insufficient progress toward a section 3 registration. Previously, exemptions were granted for this use from 1978 through 1984 and from 1987 through 1990. The state claims that growers have reported efficacy problems with the use of dicloran.

The Virginia Department of Agriculture and Consumer Services proposes to make no more than three applications of an end-use product containing 40% fluazinam on 45,000 acres of peanuts. A total of 3 pints of product (three applications at 1 pint each) or a total of 1.56 lb active ingredient may be applied per acre for a total of 70,200 pounds active ingredient. Treatments are proposed for use from June 15, 2000 to October 1, 2000. Fields requiring treatments are located in the city of Suffolk, and the counties of Southampton, Isle of Wight, Greensville, Sussex, Dinwiddie, Prince George, Surry, Accomack and Northampton.

The Oklahoma Department of Agriculture proposes to make no more than three applications of an end-use product containing 40% fluazinam on 33,000 acres of peanuts. A total of 4 pints of product or a total of 2.1 lb active ingredient may be applied per acre for a total of 70,200 pounds active ingredient. Treatments are proposed for use from July 15, 2000 to October 15, 2000. Fields requiring treatments are located in Atoka, Beckham, Blaine, Bryan, Caddo, Canadian, Carter, Choctaw, Cleveland, Comanche, Creek, Custer, Dewey, Garvin, Grady, Greer, Harmon, Haskell, Hughes, Jackson, Jefferson, Johnston, Kiowa, Lincoln, Logan, Love, McClain, McCurtain, McIntosh, Marshall, Muskogee, Okfuskee, Oklahoma, Okmulgee, Payne, Pittsburg, Pontotoc, Pottawatomie, Seminole, Stephens, Tillman, and Washita.

This notice does not constitute a decision by EPA on the application itself. The regulations governing section 18 of FIFRA require publication of a notice of receipt of an application for a specific exemption proposing “use of a new chemical (i.e., an active ingredient which has not been registered by the EPA.” The notice provides an opportunity for public comment on the application.

The Agency, will review and consider all comments received during the comment period in determining whether to issue the emergency exemption requested by the Virginia Department of Agriculture and Consumer Services, and the Oklahoma Department of Agriculture.

List of Subjects

Environmental protection, Pesticides and pests.

Dated: March 3, 2000.
James Jones,
Director, Registration Division, Office of Pesticide Programs.

[FR Doc. 00-5926 Filed 3-14-00; 8:45 am]

BILLING CODE 6560-50-F